DEPARTMENT OF TRANSPORTATION

Federal Aviation Administration

14 CFR Part 39

[Docket No. 2002-NM-196-AD; Amendment 39-12887; AD 2002-19-07]

RIN 2120-AA64

Airworthiness Directives; Bombardier Model CL-600-2B19 Series Airplanes

AGENCY: Federal Aviation Administration, DOT.

ACTION: Final rule; request for comments.

SUMMARY: This amendment adopts a new airworthiness directive (AD) that is applicable to all Bombardier Model CL-600-2B19 series airplanes. This action requires revising the Canadair Regional Jet Airplane Flight Manual to provide the flightcrew with operating limitations and procedures to enable them to maintain controllability of the airplane in the event that aileron control stiffness is encountered during flight. This action is necessary to prevent aileron control stiffness during flight, which could result in the reduction or possible loss of controllability of the airplane.

DATES: Effective October 10, 2002.

The incorporation by reference of certain publications listed in the regulations is approved by the Director of the Federal Register as of October 10, 2002.

Comments for inclusion in the Rules Docket must be received on or before October 25, 2002.

ADDRESSES: Submit comments in triplicate to the Federal Aviation Administration (FAA), Transport Airplane Directorate, ANM-114, Attention: Rules Docket No. 2002-NM-196-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2002-NM-196-AD” in the subject line and need not be submitted in triplicate. Comments sent via fax or the Internet as attached electronic files must be formatted in Microsoft Word 97 for Windows or ASCII text.

The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Bruce Valentine, Flight Test Engineer, ANE-172, FAA, Systems and Flight Test Branch, 10 Fifth Street, Third Floor, Valley Stream, New York 11581; telephone (516) 256-7528; fax (516) 568-2716.

SUPPLEMENTARY INFORMATION:

Background

Transport Canada Civil Aviation (TCCA), which is the airworthiness authority for Canada, has received a significant number of reports of aileron control stiffness on certain Bombardier Model CL-600-2B19 series airplanes following climb-to-altitude after takeoff during heavy rain or from a runway contaminated by water, snow, or slush. Reports indicate that in all of these incidents, aileron control stiffness disappeared upon descent to lower altitude, and the airplanes landed safely. Reports also indicate that all of these airplanes had accumulated more than 5,000 total flight hours.

TCCA advises that the aileron control cables are routed aft of the control columns and into the respective left and right wheel wells of the main landing gear (MLG). At this point, the cables are routed around the left and right aileron quadrants before being routed to the wings. Both the left and right aileron quadrants and other hardware for the aileron control system, which are located in the aft area of the wheel well, are susceptible to contamination by water, snow, or slush entering the area between the splash shield and each wheel well bin. As an airplane with contamination in the wheel well encounters colder temperatures, it is possible that the aileron control hardware could freeze and consequently jam.

Related AD

On October 4, 2000, the FAA issued AD 2000-20-03 R1, amendment 39-11928 (65 FR 61083, October 16, 2000), which is applicable to certain Bombardier Model CL-600-2B19 series airplanes. That AD requires installing shields for the aileron quadrants in the wheel bay of the MLG to prevent accumulation of water, ice, or slush on the aileron quadrants and control cable pulleys. The requirements of that AD are not affected by this AD.

Discussion

TCCA recently notified the FAA that an unsafe condition may exist on all Bombardier Model CL-600-2B19 series airplanes. TCCA advises that since May 2002, six incidents of aileron control stiffness were reported on airplanes on which the requirements of 2000-20-03 R1 had been accomplished. The exact cause of the contamination has not yet been determined. Aileron control stiffness during flight, if not corrected, could result in the reduction or possible loss of controllability of the airplane.

Explanation of Relevant Service Information

Bombardier has issued Canadair Regional Jet Temporary Revision (TR) RJ/109-2, dated August 9, 2002, of the Canadair Regional Jet Airplane Flight Manual (AFM). The TR describes procedures for advising the flightcrew of operating limitations and procedures to address aileron control stiffness, as follows:

• The Limitations Section specifies that, when an airplane departs from a wet or contaminated runway, the following procedure must be followed: at 10,000 feet mean sea level, or when the static air temperature is less than or equal to 0 Celsius degree (32 Fahrenheit degrees), whichever occurs later, the ailerons must be operated manually every 5,000 feet until the top of the climb;

• The Emergency Procedures Section specifies that, if frozen ailerons are suspected after departing from a wet or contaminated runway, sufficient force must be applied on the affected side to free the jam. If the jam persists, procedures specify descending to warmer temperatures. If unable to clear the jam, procedures specify landing at the nearest suitable airport, and selecting the longest runway available that has minimum turbulence and crosswind;

• The Normal Procedures Section specifies an addition to the “CLIMB CHECK” instructions that are similar to the Limitations Section. However, the Normal Procedures Section includes a note that specifies a roll rate, airplane speed, and expected response when conducting the aileron control check every 5,000 feet until the top of the climb; and

• The Abnormal Procedures Section includes a note specifying that, if frozen ailerons are suspected, the flightcrew must accomplish the “Aileron System Jammed” Emergency Procedures.

TCCA classified this TR as mandatory and issued Canadian airworthiness directive CF-2002-35R1, dated August 16, 2002, in order to assure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Rule

Since an unsafe condition has been identified that is likely to exist or develop on other airplanes of the same type design registered in the United States, this AD is being issued to prevent aileron control stiffness during flight, which could result in the reduction or possible loss of controllability of the airplane. This AD requires revising the Limitations, Emergency Procedures, Normal Procedures, and Abnormal Procedures Sections, as applicable, of the Canadair Regional Jet AFM to provide the flightcrew with operating limitations and procedures to enable them to maintain controllability of the airplane in the event that aileron control stiffness is encountered during flight. This AD requires accomplishment of the actions specified in TR RJ/109-2, except as discussed below.

Clarifications/Differences Between This AD and the Service Information

Operators should note that the compliance time in the Canadian airworthiness directive specifies amending the Canadair Regional Jet AFM 14 days after the effective date of this AD to address aileron system jams. However, taking into consideration the specifications included in the “Corrective Actions” paragraphs of the Canadian airworthiness directive, we have further clarified the compliance time in this AD, as follows:

• Paragraph (a) of this AD requires inserting the procedures for aileron system jams into certain sections of the AFM “14 days after the effective date of this AD”; and

• Paragraph (b) of this AD requires inserting the procedures for the aileron control check into certain sections of the AFM “upon the accumulation of 5,000 total flight hours, or within 14 days after the effective date of this AD, whichever occurs later.”

Operators also should note that paragraph (b) of this AD, which references the Limitations and Normal Procedures Sections of the TR, requires inserting the procedures for the aileron control check into certain sections of the AFM when an airplane has accumulated 5,000 total flight hours, or within 14 days after the effective date of this AD, whichever occurs later. However, individual pilots may operate other airplanes that have not yet accumulated 5,000 total flight hours, and that are not subject to the limitations and procedures specified in the TR. Therefore, to avoid any confusion or misunderstanding, it is important that airlines have communication mechanisms in place to ensure that pilots are aware, for each flight, whether the Limitations and Normal Procedures apply. To clarify this, we have added Note 1 in this AD accordingly.

In addition, operators should note that both the previously referenced Canadian airworthiness directive and the TR specify revising the AFM by inserting the TR into the AFM. Likewise, this AD requires that same action. However, we have determined that clarification of the detailed specifications of the Canadian airworthiness directive and the TR is necessary. Although paragraph 1.a), “Corrective Actions,” of the Canadian airworthiness directive specifies an amendment to the Emergency Procedures for aileron system jams for all airplanes, the TR specifies such an amendment to both the Emergency Procedures and Abnormal Procedures Sections for those airplanes. In addition, although paragraph 1.b), “Corrective Actions,” of the Canadian airworthiness directive specifies an amendment to the Limitations Section for an aileron control check for airplanes that have accumulated 5,000 or more total flight hours, the TR specifies such an amendment to both the Limitations and Normal Procedures Sections for those airplanes.

After contacting TCCA to receive clarification about these details, we were informed that the intent of the Canadian airworthiness directive and the TR are the same. Likewise, we have determined that the intent of this AD and the service information are essentially the same.

Interim Action

This is considered to be interim action until final action is identified, at which time the FAA may consider further rulemaking.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-196-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-19-07 Bombardier, Inc. (Formerly Canadair): Amendment 39-12887. Docket 2002-NM-196-AD.

Applicability: All Model CL-600-2B19 series airplanes, certificated in any category.

Compliance: Required as indicated, unless accomplished previously.

To prevent aileron control stiffness during flight, which could result in the reduction or possible loss of controllability of the airplane, accomplish the following:

Airplane Flight Manual (AFM) Revision

(a) Within 14 days after the effective date of this AD, insert the procedures for aileron system jams specified in Canadair Regional Jet Temporary Revision (TR) RJ/109-2, dated August 9, 2002, into the Emergency Procedures and Abnormal Procedures Sections, as applicable, of the FAA-approved Canadair Regional Jet AFM.

(b) Upon the accumulation of 5,000 total flight hours, or within 14 days after the effective date of this AD, whichever occurs later, insert the procedures for the aileron control check specified in Canadair Regional Jet TR RJ/109-2, dated August 9, 2002, into the Limitations and Normal Procedures Sections, as applicable, of the Canadair Regional Jet AFM.

Note 1: The Limitations and Normal Procedures specified by paragraph (b) of this AD are required to be implemented only when an airplane has accumulated 5,000 total flight hours. However, individual pilots may operate other airplanes that have not yet accumulated 5,000 total flight hours, and that are not subject to those limitations and procedures. Therefore, to avoid any confusion or misunderstanding, it is important that airlines have communication mechanisms in place to ensure that pilots are aware, for each flight, whether the Limitations and Normal Procedures apply.

(c) When the information in Canadair Regional Jet TR RJ/109-2, dated August 9, 2002, of the Canadair Regional Jet AFM, has been incorporated into the FAA-approved general revisions of the AFM, the TR may be removed from the AFM.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(e) Special flight permits may be issued in accordance with §§ 21.197 and 21.199 of the Federal Aviation Regulations (14 CFR 21.197 and 21.199) to operate the airplane to a location where the requirements of this AD can be accomplished.

Incorporation by Reference

(f) The actions shall be done in accordance with Canadair Regional Jet TR RJ/109-2, dated August 9, 2002. This incorporation by reference was approved by the Director of the Federal Register in accordance with 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., Suite 700, Washington, DC.

Note 3: The subject of this AD is addressed in Canadair airworthiness directive CF-2002-35R1, dated August 16, 2002.

Effective Date

(g) This amendment becomes effective on October 10, 2002.

Issued in Renton, Washington, on September 16, 2002.
Vi L. Lipski,
Manager, Transport Airplane Directorate, Aircraft Certification Service.

[FR Doc. 02-24178 Filed 9-24-02; 8:45 am]

BILLING CODE 4910-13-P